DEPARTMENT OF COMMERCE

International Trade Administration

[A-570-831]

Fresh Garlic From the People's Republic of China: Rescission of Antidumping Duty New Shipper Review

AGENCY: Import Administration, International Trade Administration, Department of Commerce.

ACTION: Rescission of antidumping duty new shipper review.

SUMMARY: On June 30, 2005, the Department of Commerce (“the Department”) initiated a new shipper review of the antidumping duty order on fresh garlic from the People's Republic of China (“PRC”) covering the period November 1, 2004, through April 30, 2005. See Fresh Garlic from the People's Republic of China: Notice of Initiation of New Shipper Antidumping Duty Review, 70 FR 39733 (July 11, 2005) (“Initiation Notice”). This new shipper review covered three exporters, Shandong Chenshun Farm Produce Trading Company, Ltd., Shenzhen Fanhui Import and Export Co., Ltd., and Xi'an XiongLi Foodstuff Co., Ltd. (“Xian XiongLi”). For the reasons discussed below, pursuant to 19 CFR 351.214(f)(1), we are rescinding the review of Xian XiongLi.

EFFECTIVE DATE: September 14, 2005.

FOR FURTHER INFORMATION CONTACT: Ryan Douglas or Brian Ledgerwood at AD/CVD Operations, Office 8, Import Administration, International Trade Administration, U.S. Department of Commerce, 14th Street and Constitution Avenue, NW., Washington, DC 20230; telephone: (202) 482-1277 and (202) 482-3836, respectively.

SUPPLEMENTARY INFORMATION:

Background

On May 26, 2005, the Department received a timely request for a new shipper review of the antidumping duty order on fresh garlic from the PRC from Xian XiongLi, an exporter of subject merchandise sold to the United States. On June 30, 2005, the Department initiated this new shipper review covering the period November 1, 2004, through April 30, 2005. On August 9, 2005, the Department received a timely request from Xian XiongLi to withdraw its request for this review. See Letter from Xian XiongLi Foodstuff Co., Ltd. to the Department, August 9, 2005.

Scope of the Antidumping Duty Order

The products subject to this antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include (a) garlic that has been mechanically harvested and that is primarily, but not exclusively, destined for non-fresh use or (b) garlic that has been specially prepared and cultivated prior to planting and then harvested and otherwise prepared for use as seed.

The subject merchandise is used principally as a food product and for seasoning. The subject garlic is currently classifiable under subheadings 0703.20.0000, 0710.80.7060, 0710.80.9750, 0711.90.6000, and 2005.90.9500 of the Harmonized Tariff Schedule of the United States (“HTSUS”). Although the HTSUS subheadings are provided for convenience and customs purposes, the written description of the scope of this proceeding is dispositive.

In order to be excluded from antidumping duties, garlic entered under the HTSUS subheadings listed above that is (1) mechanically harvested and primarily, but not exclusively, destined for non-fresh use, or (2) specially prepared and cultivated prior to planting and then harvested and otherwise prepared for use as seed, must be accompanied by declarations to the U.S. Customs and Border Protection (“CBP”) to that effect.

Rescission of New Shipper Review

Pursuant to 19 CFR 351.214(f)(1), the Department will rescind a new shipper review if a party that requested a review withdraws its request not later than 60 days after the date of publication of the notice of initiation of the requested review. Xian XiongLi; withdrew its request for a new shipper review on August 09, 2005, before the expiration of the 60-day deadline. No other party requested a new shipper review of Xian XiongLi, therefore, we are rescinding the new shipper review of the antidumping duty order on fresh garlic from the PRC with respect to Xian XiongLi in accordance with 19 CFR 351.214(f)(1).

Cash Deposits

The Department will issue appropriate cash deposit instructions to CBP for shipments from Xian XiongLi of fresh garlic from the PRC entered, or withdrawn from warehouse, for consumption in the United States on or after the publication of this notice of rescission of antidumping duty new shipper review in the Federal Register. Further, effective upon publication of this notice, for all shipments of the subject merchandise exported by Xian XiongLi and entered, or withdrawn from warehouse, for consumption, the cash deposit rate will be the PRC-wide rate, which is 376.67 percent.

Notification to Parties Subject to Administrative Protective Orders

This notice serves as a reminder to parties subject to administrative protective orders (“APO”) of their responsibility concerning the disposition of proprietary information disclosed under APO in accordance with section 351.305(a)(3) of the Department's regulations. Timely written notification of the return/destruction of APO material or conversion to judicial protective order is hereby requested. Failure to comply with the regulations and terms of an APO is a violation which is subject to sanctions.

We are issuing and publishing this determination and notice in accordance with sections 751(a)(2)(B) and 777(i)(1) of the Tariff Act of 1930, as amended, and 19 CFR 351.214(f)(3).

Dated: September 7, 2005.
Barbara E. Tillman,
Acting Deputy Assistant Secretary for Import Administration.

[FR Doc. E5-5020 Filed 9-13-05; 8:45 am]

BILLING CODE 3510-DS-P